DEPARTMENT OF ENERGY

Federal Energy Regulatory Commission

[Docket No. RM06-16-010; RM06-16-011]

Mandatory Reliability Standards for the Bulk-Power System; Notice of Technical Conference

August 19, 2010.

Take notice that the Federal Energy Regulatory Commission staff will hold a Technical Conference on Frequency Response in the Wholesale Electric Grid on Thursday, September 23, from 10 a.m. to approximately 4 p.m. This staff-led conference will be held in the Commission Meeting Room at the Federal Energy Regulatory Commission, 888 First Street, NE., Washington, DC 20426. The conference will be open for the public to attend and advance registration is not required. Members of the Commission may attend the conference.

The purpose of the conference is to discuss technical issues pertaining to frequency response. In Order No. 693 the Commission approved Reliability Standard BAL-003-0 as mandatory and enforceable and directed the ERO to develop a modification to BAL-003-0 through the Reliability Standards development process that “defines the necessary amount of Frequency Response needed for Reliable Operation for each balancing authority with methods of obtaining and measuring that the frequency response is achieved.” ¹ In a March 18, 2010 order, the Commission set a compliance deadline for NERC to comply with this Commission directive. Several parties sought rehearing of the March 18, 2010 order,² and on May 13, 2010, the Commission directed Commission staff to “convene a technical conference to provide an opportunity for a public discussion regarding technical issues pertaining to the development of a frequency response requirement.” ³

¹ Mandatory Reliability Standards for the Bulk-Power System, Order No. 693, FERC Stats. & Regs. ¶ 31,242, at P 375, order on reh'g, Order No. 693-A, 120 FERC ¶ 61,053 (2007).

² Mandatory Reliability Standards for the Bulk Power System, 130 FERC ¶ 61,218, order granting reh'g for further consideration and scheduling technical conference, 131 FERC ¶ 61,136 (2010) (May 13, 2010 Order).

³ May 13, 2010 Order, 131 FERC ¶ 61,136 at P 14.

The agenda for this conference will be issued at a later date. Information on this event will be posted on the Calendar of Events on the Commission's Web site, http://www.ferc.gov, prior to the event.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, 888 First Street, NE., Washington, DC 20426, (202) 502-8368, sarah.mckinley@ferc.gov.

Kimberly D. Bose,
Secretary.

[FR Doc. 2010-21163 Filed 8-25-10; 8:45 am]

BILLING CODE 6717-01-P